DEPARTMENT OF HOMELAND SECURITY

Coast Guard

33 CFR Part 165

[Docket No. USCG-2010-0271]

RIN 1625-AA00

Safety Zone; Extended Debris Removal in the Lake Champlain Bridge Construction Zone (Between Vermont and New York), Crown Point, NY

AGENCY: Coast Guard, DHS.

ACTION: Temporary final rule.

SUMMARY: The Coast Guard is establishing a temporary safety zone on the navigable waters immediately surrounding the Lake Champlain Bridge construction zone between Chimney Point, VT and Crown Point, NY. This rule re-establishes a safety zone that was scheduled to expire prior to the completion of the removal of debris from the old Crown Point bridge demolition. The debris must be cleared from the navigable waterway prior to opening the channel to vessel traffic. This rule is necessary to provide safety of life on the navigable waters within this area during the demolition and debris removal of the bridge piers within this construction zone.

DATES: This rule is effective in the CFR on April 27, 2010. This rule is effective with actual notice for purposes of enforcement from 12:01 a.m. on Friday, April 16, 2010 through 11:59 p.m. on Saturday, May 15, 2010.

ADDRESSES: Documents indicated in this preamble as being available in the docket are part of docket USCG-2010-0271 and are available online by going to http://www.regulations.gov, inserting USCG-2010-0271 in the “Keyword” box, and then clicking “Search.” They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this temporary rule, call or e-mail Lieutenant Junior Grade Laura van der Pol, Coast Guard Sector Northern New England, Waterways Management Division; telephone 207-741-5421, e-mail Laura.K.vanderPol1@uscg.mil. If you have questions on viewing the docket, call Renee V. Wright, Program Manager, Docket Operations, telephone 202-366-9826.

SUPPLEMENTARY INFORMATION:

Regulatory Information

The Coast Guard is issuing this temporary final rule without prior notice and opportunity to comment pursuant to authority under section 4(a) of the Administrative Procedure Act (APA) (5 U.S.C. 553(b)). This provision authorizes an agency to issue a rule without prior notice and opportunity to comment when the agency for good cause finds that those procedures are “impracticable, unnecessary, or contrary to the public interest.” Under 5 U.S.C. 553(b)(B), the Coast Guard finds that good cause exists for not publishing a notice of proposed rulemaking (NPRM) with respect to this rule. The New York State Department of Transportation recently requested an extension to deadline for removing the concrete piers (6 and 7) which line the main channel in Crown Point, NY. These piers can only be effectively removed by explosive charges, and both the piers and subsequent debris must be removed before the Coast Guard can reopen the channel to all vessel traffic. The Coast Guard did not receive notification of delays in the debris removal operations in sufficient time to complete a comment period prior to the expiration of the existing safety zone. As delaying the demolition and debris removal process is contrary to public interest, and there is continued need to protect waterway users from hazardous debris in the navigational channel, a comment period is both impractical and unnecessary.

Under 5 U.S.C. 553(d)(3), the Coast Guard finds that good cause exists for making this rule effective less than 30 days after publication in the Federal Register for the same reasons enumerated above.

Basis and Purpose

On December 28th, 2009 the New York State Department of Transportation demolished the Lake Champlain Bridge after an inspection showed significant deterioration of the concrete piers supporting the bridge as well as extreme wear to the metal structure. For that demolition and subsequent debris removal, the Coast Guard established a safety zone around the construction site, an exclusion area that remains in effect until April 15, 2010 (docket number USCG-2009-1094). While the Coast Guard had intended to re-open the area to all traffic upon expiration of that safety zone, it is unsafe to do so until the debris removal process is complete and the area has been surveyed.

The New York State Department of Transportation recently requested an extension to the original April 15, 2010 deadline for clearing the main channel as there have been operational delays that did not allow the removal of concrete piers 6 and 7 at an earlier date. As the current safety zone does not provide sufficient time for complete debris removal and a channel survey, the Coast Guard is establishing this temporary safety zone to meet that need.

A pier explosion is tentatively scheduled for Friday, April 9, 2010 or Saturday, April 10, 2010 depending on weather and operations necessary to place explosive charges on the piers. The pier demolition will put additional debris in the navigational channel that must be cleared and surveyed prior to vessels transiting through the area.

This safety zone will extend the current zone by one month (through May 15th, 2010) to allow for complete debris removal in the main channel as well as a side-scan sonar survey to verify the area is safe for navigation. The Captain of the Port will enforce a zone 1500 feet to the north and south of the Lake Champlain Bridge construction site. The Captain of the Port may suspend part or all of the zone if the Coast Guard determines that it is safe to do so or if a channel survey is completed prior to May 15th, 2010. The notifications for such an event are discussed below under “List of Subjects”.

This safety zone is being established to provide for the safety of life on the navigable waters by prohibiting entry into an area surrounding the Lake Champlain Bridge construction zone during continued debris removal.

Discussion of Rule

This rule establishes a temporary safety zone of 1500 feet to either side of the Lake Champlain Bridge construction zone, between 44°02′06″ N, 073°25′41″ W to the north and 44°01′53″ N, 073°25′06″ W to the south. The Captain of the Port may suspend enforcement to part or all of this zone when deemed safe to do so.

Entry into this zone by any vessel or person is strictly prohibited through Saturday, May 15th, 2010 unless specifically authorized by the Captain of the Port, Sector Northern New England.

The Captain of the Port anticipates little negative impact on vessel traffic from this temporary safety zone. This safety zone extends the existing limited access area by one month, and it may be suspended after completion of a channel survey that verifies the safety of the main channel for navigation.

Additionally, details of the project and safety zone enforcement will continue to be made via a Local Notice to Mariners and Broadcast Notice to Mariners.

Regulatory Analyses

We developed this rule after considering numerous statutes and executive orders related to rulemaking. Below we summarize our analyses based on 13 of these statutes or executive orders.

Regulatory Planning and Review

This rule is not a significant regulatory action under section 3(f) of Executive Order 12866, Regulatory Planning and Review, and does not require an assessment of potential costs and benefits under section 6(a)(3) of that Order. The Office of Management and Budget has not reviewed it under that Order.

This rule is not a significant regulatory action because there is no commercial traffic in the region, and the locks that allow passage through the New York State Canal System do not open until May 1, 2010. Until that time, the recreational traffic through the area is minimal. Also, traffic will be allowed to pass through the zone with the permission of the Coast Guard Captain of the Port.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This rule will affect the following entities, some of which may be small entities: the Lake Champlain Transportation Company, and the owners or operators of vessels intending to transit or anchor in a portion of the navigable waters immediately surrounding the Lake Champlain Bridge construction zone between Chimney Point, VT and Crown Point, NY.

This safety zone will not have a significant economic impact on a substantial number of small entities for the following reasons: There is no commercial traffic in the region, and recreational boaters will be allowed to pass through the zone with the permission of the Coast Guard Captain of the Port.

Assistance for Small Entities

Under section 213(a) of the Small Business Regulatory Enforcement Fairness Act of 1996 (Pub. L. 104-121), we offer to assist small entities in understanding the rule so that they can better evaluate its effects on them and participate in the rulemaking process. If your small business or organization would be affected by this rule and you have any questions concerning its provisions or options for compliance, please call or e-mail Lieutenant Junior Grade Laura van der Pol, Coast Guard Sector Northern New England, Waterways Management Division; telephone 207-741-5421, e-mail Laura.K.vanderPol1@uscg.mil.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

Taking of Private Property

This rule will not cause a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Department of Homeland Security Management Directive 023-01 and Commandant Instruction M16475.lD, which guide the Coast Guard in complying with the National Environmental Policy Act of 1969 (NEPA) (42 U.S.C. 4321-4370f), and have concluded this action is one of a category of actions which do not individually or cumulatively have a significant effect on the human environment. This rule is categorically excluded, under figure 2-1, paragraph (34)(g), of the Instruction. This rule involves the establishment of a safety zone. An environmental analysis checklist and a categorical exclusion determination will be available in the docket where indicated under ADDRESSES.

List of Subjects in 33 CFR Part 165

Harbors, Marine safety, Navigation (water), Reporting and recordkeeping requirements, Security measures, Waterways.

For the reasons discussed in the preamble, the Coast Guard amends 33 CFR Part 165 as follows:

PART 165—REGULATED NAVIGATION AREAS AND LIMITED ACCESS AREAS

1. The authority citation for Part 165 continues to read as follows:

Authority: 33 U.S.C. 1226, 1231; 46 U.S.C. Chapter 701, 3306, 3703; 50 U.S.C. 191, 195; 33 CFR 1.05-1(g), 6.04-1, 6.04-6, and 160.5; Pub. L. 107-295, 116 Stat. 2064; Department of Homeland Security Delegation No. 0170.1.

2. Add temporary § 165.T10-0271 to read as follows:

§ 165.T10-0271 Safety Zone; Extended Debris Removal in the Lake Champlain Bridge Construction Zone (between Vermont and New York), Crown Point, NY.

(a) Location. The following area is a safety zone: All navigable waters from surface to bottom extending 1500 feet to either side of the Lake Champlain Bridge construction zone, marked by coordinates 44″02′06″ N, 073″25′41″ W to the north and 44″01′53″ N, 073″25′06″ W to the south. Visually, this area is marked from shore to shore by a line between Orchard Point in New York to Hoist Point in Vermont to the north, and a line passing through the assigned position of Crown Point Lighted Buoy 58 (LLNR 39865) at 44″01′42″ N, 073″24′57″ W and the southern coordinate indicated above. If conditions allow, the Coast Guard Captain of the Port, Sector Northern New England may suspend enforcement for all or a portion of the safety zone. Notification of such a reduction in the safety zone will be made via Broadcast Notice to Mariners.

(b) Regulations. (1) The general regulations in § 165.23 apply.

(2) In accordance with the general regulations in § 165.23, entry into or remaining within this safety zone is prohibited unless authorized by the Coast Guard Captain of the Port, Sector Northern New England.

(3) Persons desiring to transit the area of the safety zone may contact the Captain of the Port, Sector Northern New England Command Center at 207-741-3020 or on VHF channel 16 (156.8 MHz) to seek permission to transit the zone. If permission is granted, all persons and vessels must comply with the instructions of the Captain of the Port, Sector Northern New England or his designated representative.

(c) Effective Period. This section is effective from Friday, April 16th, 2010 through Saturday, May 15th, 2010. The Captain of the Port will notify the maritime community of enforcement of this safety zone via Local Notices to Mariners and Broadcast Notice to Mariners.

Dated: April 8, 2010.
B.J. Downey, Jr.,
Commander, U.S. Coast Guard, Captain of the Port Sector Northern New England Acting.

[FR Doc. 2010-9680 Filed 4-26-10; 8:45 am]

BILLING CODE 9110-04-P